DEPARTMENT OF COMMERCE

International Trade Administration

Initiation of Antidumping and Countervailing Duty Administrative Reviews

AGENCY: Enforcement and Compliance, International Trade Administration, Department of Commerce.

SUMMARY: The Department of Commerce (the Department) has received requests to conduct administrative reviews of various antidumping and countervailing duty orders and findings with April anniversary dates. In accordance with the Department's regulations, we are initiating those administrative reviews.

DATES: Effective June 7, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with April anniversary dates.

All deadlines for the submission of various types of information, certifications, or comments or actions by the Department discussed below refer to the number of calendar days from the applicable starting time.

Notice of No Sales

If a producer or exporter named in this notice of initiation had no exports, sales, or entries during the period of review (POR), it must notify the Department within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than April 30, 2018.

| Period to be reviewed
Antidumping Duty Proceedings
Indonesia: Certain Uncoated Paper ⁴ A-560-828 | 8/26/15-2/28/17
The People's Republic of China: Activated Carbon A-570-904 | 4/1/16-3/31/17
AmeriAsia Advanced Activated Carbon Products Co., Ltd.
Anhui Handfull International Trading (Group) Co., Ltd.
Anhui Hengyuan Trade Co. Ltd.
Anyang Sino-Shon International Trading Co., Ltd.
Baoding Activated Carbon Factory
Beijing Broad Activated Carbon Co., Ltd.
Beijing Embrace Technology Co., Ltd.
Beijing Haijian Jiechang Environmental Protection Chemicals
Beijing Hibridge Trading Co., Ltd.
Beijing Pacific Activated Carbon Products Co., Ltd.
Bengbu Jiutong Trade Co., Ltd.
Bengbu First Commercial & Trading Co., Ltd.
Bravo Speciality Chemicals Co., Ltd.
Calgon Carbon (Tianjin) Co., Ltd.
Carbon Activated Tianjin Co., Ltd.
Changji Hongke Activated Carbon Co., Ltd.
Chengde Jiayu Activated Carbon Factory
China National Building Materials and Equipment Import and Export Corp.
China National Nuclear General Company Ningxia Activated Carbon Factory
China Nuclear Ningxia Activated Carbon Plant
China SDIC International Trade Co., Ltd.
Chongqing Feiyang Active Carbon Manufacture
Da Neng Zheng Da Activated Carbon Co., Ltd.
Datong Carbon Corporation
Datong Changtai Activated Carbon Co., Ltd.
Datong City Zuoyun County Activated Carbon Co., Ltd.
Datong Fenghua Activated Carbon
Datong Forward Activated Carbon Co., Ltd.
Datong Fuping Activated Carbon Co. Ltd.
Datong Guanghua Activated Co., Ltd.
Datong Hongtai Activated Carbon Co., Ltd.
Datong Huanqing Activated Carbon Co., Ltd.
Datong Huaxin Activated Carbon
Datong Huibao Activated Carbon Co., Ltd.
Datong Huibao Active Carbon Co., Ltd.
Datong Huiyuan Cooperative Activated Carbon Plant
Datong Juqiang Activated Carbon Co., Ltd.
Datong Kaneng Carbon Co. Ltd.
Datong Locomotive Coal & Chemicals Co., Ltd.
Datong Municipal Yunguang Activated Carbon Co., Ltd.
Datong Tianzhao Activated Carbon Co., Ltd.
DaTong Tri-Star & Power Carbon Plant
Datong Weidu Activated Carbon Co., Ltd.
Datong Xuanyang Activated Carbon Co., Ltd.
Datong Zuoyun Biyun Activated Carbon Co., Ltd.
Datong Zuoyun Fu Ping Activated Carbon Co., Ltd.
Dezhou Jiayu Activated Carbon Factory
Dongguan Baofu Activated Carbon
Dongguan SYS Hitek Co., Ltd.
Dushanzi Chemical Factory
Fu Yuan Activated Carbon Co., Ltd.
Fujian Active Carbon Industrial Co., Ltd.
Fujian Jianyang Carbon Plant
Fujian Nanping Yuanli Activated Carbon Co., Ltd.
Fujian Xinsen Carbon Co., Ltd
Fujian Yuanli Active Carbon Co., Ltd.
Fujian Yuanli Active Carbon Industrial Co., Ltd.
Fujian Zhixing Activated Carbon Co., Ltd.
Fuzhou Taking Chemical
Fuzhou Yihuan Carbon
Great Bright Industrial
Hangzhou Hengxing Activated Carbon
Hangzhou Hengxing Activated Carbon Co., Ltd.
Hangzhou Linan Tianbo Material (HSLATB)
Hangzhou Nature Technology
Hangzhou Waterland Environmental Technologies Co., Ltd.
Hebei Foreign Trade and Advertising Corporation
Hebei Luna Trading Co., Ltd.
Hebei Shenglun Import & Export Group Company
Hegongye Ninxia Activated Carbon Factory
Heilongjiang Provincial Hechang Import & Export Co., Ltd.
Hongke Activated Carbon Co., Ltd.
Huaibei Environment Protection Material Plant
Huairen Huanyu Purification Material Co., Ltd.
Huairen Jinbei Chemical Co., Ltd.
Huaiyushan Activated Carbon Group
Huatai Activated Carbon
Huzhou Zhonglin Activated Carbon
Inner Mongolia Taixi Coal Chemical Industry Limited Company
Itigi Corp. Ltd.
J&D Activated Carbon Filter Co. Ltd.
Jacobi Carbons AB
Jiangle County Xinhua Activated Carbon Co., Ltd.
Jiangsu Taixing Yixin Activated Carbon Technology Co., Ltd.
Jiangxi Hanson Import Export Co.
Jiangxi Huaiyushan Activated Carbon
Jiangxi Huaiyushan Activated Carbon Group Co.
Jiangxi Huaiyushan Suntar Active Carbon Co., Ltd.
Jiangxi Jinma Carbon
Jiangxi Yuanli Huaiyushan Active Carbon Co., Ltd.
Jianou Zhixing Activated Carbon
Jiaocheng Xinxin Purification Material Co., Ltd.
Jilin Bright Future Chemicals Company, Ltd.
Jilin Province Bright Future Industry and Commerce Co., Ltd.
Jing Mao (Dongguan) Activated Carbon Co., Ltd.
Kaihua Xingda Chemical Co., Ltd.
Kemflo (Nanjing) Environmental Tech
Keyun Shipping (Tianjin) Agency Co., Ltd.
Kunshan Actview Carbon Technology Co., Ltd.
Langfang Winfield Filtration Co.
Link Shipping Limited
Longyan Wanan Activated Carbon
Meadwestvaco (China) Holding Co., Ltd.
Mindong Lianyi Group
Nanjing Mulinsen Charcoal
Nantong Ameriasia Advanced Activated Carbon Product Co., Ltd.
Ningxia Baiyun Carbon Co., Ltd.
Ningxia Baota Activated Carbon Co., Ltd.
Ningxia Baota Active Carbon Plant
Ningxia Guanghua A/C Co., Ltd.
Ningxia Blue-White-Black Activated Carbon (BWB)
Ningxia Fengyuan Activated Carbon Co., Ltd.
Ningxia Guanghua Activated Carbon Co., Ltd.
Ningxia Guanghua Chemical Activated Carbon Co., Ltd.
Ningxia Guanghua Cherishmet Activated Carbon Co., Ltd.
Ningxia Haoqing Activated Carbon Co., Ltd.
Ningxia Henghui Activated Carbon
Ningxia Honghua Carbon Industrial Corporation
Ningxia Huahui Activated Carbon Co., Ltd.
Ningxia Huinong Xingsheng Activated Carbon Co., Ltd.
Ningxia Jirui Activated Carbon
Ningxia Lingzhou Foreign Trade Co., Ltd.
Ningxia Luyuangheng Activated Carbon Co., Ltd.
Ningxia Mineral & Chemical Limited
Ningxia Pingluo County Yaofu Activated Carbon Plant
Ningxia Pingluo Xuanzhong Activated Carbon Co., Ltd.
Ningxia Pingluo Yaofu Activated Carbon Factory
Ningxia Taixi Activated Carbon
Ningxia Tianfu Activated Carbon Co., Ltd.
Ningxia Tongfu Coking Co, Ltd.
Ningxia Weining Active Carbon Co., Ltd.
Ningxia Xingsheng Coal and Active Carbon Co., Ltd.
Ningxia Xingsheng Coke & Activated Carbon Co., Ltd.
Ningxia Yinchuan Lanqiya Activated Carbon Co., Ltd.
Ningxia Yirong Alloy Iron Co., Ltd.
Ningxia Zhengyuan Activated
Nuclear Ningxia Activated Carbon Co., Ltd.
OEC Logistic Qingdao Co., Ltd.
OEC Logistics Co., Ltd. (Tianjin)
Panshan Import and Export Corporation
Pingluo Xuanzhong Activated Carbon Co., Ltd.
Pingluo Yu Yang Activated Carbon Co., Ltd.
Shanghai Activated Carbon Co., Ltd.
Shanghai Astronautical Science Technology Development Corporation
Shanghai Coking and Chemical Corporation
Shanghai Goldenbridge International
Shanghai Jiayu International Trading (Dezhou Jiayu and Chengde Jiayu)
Shanghai Jinhu Activated Carbon (Xingan Shenxin and Jiangle Xinhua)
Shanghai Light Industry and Textile Import & Export Co., Ltd.
Shanghai Mebao Activated Carbon
Shanghai Xingchang Activated Carbon
Shanxi Blue Sky Purification Material Co., Ltd.
Shanxi Carbon Industry Co., Ltd.
Shanxi Dapu International Co., Ltd.
Shanxi Dapu International Trade Co., Ltd.
Shanxi DMD Corporation
Shanxi Industry Technology Trading Co., Ltd.
Shanxi Newtime Co., Ltd.
Shanxi Qixian Foreign Trade Corporation
Shanxi Qixian Hongkai Active Carbon Goods
Shanxi Sincere Industrial Co., Ltd.
Shanxi Supply and Marketing Cooperative
Shanxi Tianli Ruihai Enterprise Co.
Shanxi Tianxi Purification Filter Co., Ltd.
Shanxi U Rely International Trade
Shanxi Xiaoyi Huanyu Chemicals Co., Ltd.
Shanxi Xinhua Activated Carbon Co., Ltd.
Shanxi Xinhua Chemical Co., Ltd. (formerly Shanxi Xinhua Chemical Factory)
Shanxi Xinhua Protective Equipment
Shanxi Xinshidai Import Export Co., Ltd.
Shanxi Xuanzhong Chemical Industry Co., Ltd.
Shanxi Zuoyun Yunpeng Coal Chemistry
Shenzhen Sihaiweilong Technology Co.
Shijiazhuang Xinshuang Trade Co., Ltd.
Sincere Carbon Industrial Co. Ltd.
Sinoacarbon International Trading Co, Ltd.
Taining Jinhu Carbon
Taiyuan Hengxinda Trade Co., Ltd.
Tancarb Activated Carbon Co., Ltd.
Tangshan Solid Carbon Co., Ltd.
Tianchang (Tianjin) Activated Carbon
Tianjin Century Promote International Trade Co., Ltd.
Tianjin Channel Filters Co., Ltd.
Tianjin Jacobi International Trading Co. Ltd.
Tianjin Maijin Industries Co., Ltd.
Tonghua Bright Future Activated Carbon Plant
Tonghua Xinpeng Activated Carbon Factory
Top One International Trading Co., Ltd.
Triple Eagle Container Line
Uniclear New-Material Co., Ltd.
United Manufacturing International (Beijing) Ltd.
Valqua Seal Products (Shanghai) Co.
VitaPac (HK) Industrial Ltd.
Wellink Chemical Industry
Xi Li Activated Carbon Co., Ltd.
Xi'an Shuntong International Trade & Industrials Co., Ltd.
Xiamen All Carbon Corporation
Xingan County Shenxin Activated Carbon Factory
Xinhua Chemical Company Ltd.
Xuanzhong Chemical Industry
Yangyuan Hengchang Active Carbon
Yicheng Logistics
Yinchuan Lanqiya Activated Carbon Co., Ltd.
Zhejiang Quizhou Zhongsen Carbon
Zhejiang Topc Chemical Industry Co.
Zhejiang Xingda Activated Carbon Co., Ltd.
Zhejiang Yun He Tang Co., Ltd.
Zhuxi Activated Carbon
Zuoyun Bright Future Activated Carbon Plant
Socialist Republic Of Vietman: Certain Frozen Warmwater Shrimp ⁵ A-552-802 | 2/1/16-1/31/17
The People's Republic of China: Certain Steel Threaded Rod A-570-932 | 4/1/16-3/31/17
Aerospace Precision Corp. (Shanghai) Industry Co., Ltd.
Aihua Holding Group Co. Ltd.
Autocraft Industry (Shanghai) Ltd.
Autocraft Industry Ltd.
Billion Land Ltd.
Billion Technology Ltd.
Bolt Mfg. Trade Ltd.
Billiongold Hardware Co. Ltd.
Brighton Best International (Taiwan) Inc.
Brother Holding Group Co. Ltd.
C and H International Corporation
Catic Fujian Co., Ltd.
Cci International Ltd.
Century Distribution Systems Inc.
Certified Products International Inc.
Changshu City Standard Parts Factory
China Friendly Nation Hardware Technology Limited
D.M.D. International Co. Ltd.
Da Cheng Hardware Products Co., Ltd.
Dalian Xingxin Steel Fabrication
Dongxiang Accuracy Hardware Co., Ltd.
Ec International (Nantong) Co., Ltd.
Fastco (Shanghai) Trading Co., Ltd.
Fasten International Co., Ltd.
Fastenal Canada Ltd.
Fastwell Industry Co. Ltd.
Fook Shing Bolts & Nuts Co. Ltd.
Fuda Xiongzhen Machinery Co., Ltd.
Fuller Shanghai Co. Ltd.
Gem-Year Industrial Co. Ltd.
Guangdong Honjinn Metal & Plastic Co., Ltd.
Hainan Zhongyan United Development Co.
Haining Hifasters Industrial Co.
Haining Shende Imp. & Exp. Co. Ltd.
Haining Zhongda Fastener Co., Ltd.
Haiyan Ai&Lun Standard Fastener Co.
Haiyan Chaoqiang Standard Fastener
Haiyan Dayu Fasteners Co., Ltd.
Haiyan Evergreen Standard Parts Co. Ltd.
Haiyan Fuxin High Strength Fastener
Haiyan Hatehui Machinery Hardware
Haiyan Hurras Import & Export Co. Ltd.
Haiyan Jianhe Hardware Co. Ltd.
Haiyan Julong Standard Part Co. Ltd.
Haiyan Shangchen Imp. & Exp. Co.
Haiyan Yuxing Nuts Co. Ltd.
Hangzhou Everbright Imp. & Exp. Co. Ltd.
Hangzhou Grand Imp. & Exp. Co., Ltd.
Hangzhou Great Imp. & Exp. Co. Ltd.
Hangzhou Lizhan Hardware Co. Ltd.
Hangzhou Prostar Enterprises Ltd.
Hangzhou Tongwang Machinery Co., Ltd.
Hilti (China) Ltd.
Hong Kong Sunrise Fasteners Co. Ltd.
Hong Kong Yichen Co. Ltd.
Honoble Precision (China) Mfg.
Intech Industries Shanghai Co., Ltd.
Jiangsu Innovo Precision Machinery
Jiangsu Jinhuan Fastener Co., Ltd.
Jiangsu Zhongweiyu Communication Equipment Co. Ltd.
Jiashan Steelfit Trading Co. Ltd.
Jiashan Zhongsheng Metal Products Co., Ltd.
Jiaxing Brother Standard Part Co., Ltd.; IFI & Morgan Ltd.; and RMB Fasteners Ltd.
Jiaxing Allywin Mfg. Co., Ltd.
Jiaxing Chinafar Standard
Jiaxing Sini Fastener Co., Ltd.
Jiaxing Jinhow Import & Export Co., Ltd.
Jiaxing Xinyue Standard Part Co. Ltd.
Jiaxing Yaoliang Import & Export Co. Ltd.
Jinan Banghe Industry & Trade Co., Ltd.
Kinfast Hardware (Shenzhen) Ltd.
King Socket Screw Company Ltd.
L&W Fasteners Company
Macropower Industrial Inc.
Mai Seng International Trading Co., Ltd.
MB Services Company
Midas Union Co., Ltd.
Nanjing Prosper Import & Export Corporation Ltd.
Nantong Runyou Metal Products
New Pole Power System Co. Ltd.
Ningbo Abc Fasteners Co., Ltd.
Ningbiao Bolts & Nuts Manufacturing Co.
Ningbo Beilun Milfast Metalworks Co. Ltd.
Ningbo Beilun Pingxin Hardware Co., Ltd.
Ningbo Dexin Fastener Co. Ltd.
Ningbo Dongxin High-Strength Nut Co., Ltd.
Ningbo Exact Fasteners Co., Ltd.
Ningbo Fastener Factory
Ningbo Fengya Imp. and Exp. Co. Ltd.
Ningbo Fourway Co., Ltd.
Ningbo Haishu Holy Hardware Import and Export Co. Ltd.
Ningbo Haishu Wit Import & Export Co. Ltd.
Ningbo Haishu Yixie Import & Export Co. Ltd.
Ningbo Jinding Fastening Piece Co., Ltd.
Ningbo MPF Manufacturing Co. Ltd.
Ningbo Panxiang Imp. & Exp. Co. Ltd.
Ningbo Seduno Imp. Exp. Co., Ltd.
Ningbo Qianjiu Instrument Case Factory
Ningbo Yili Import & Export Co., Ltd.
Ningbo Yinzhou Dongxiang Accuracy Hardware Co., Ltd.
Ningbo Yinzhou Foreign Trade Co., Ltd.
Ningbo Yinzhou Woafan Industry & Trade Co., Ltd.
Ningbo Zhenhai Beisuda Equipment Co.
Ningbo Zhenhai Jinhuan Fasteners
Ningbo Zhenghai Yongding Fastener Co., Ltd.
Ningbo Zhenhai Dingli Fastener Screw Co., Ltd.
Ningbo Zhongjiang High Strength Bolts Co. Ltd.
Ningbo Zhongjiang Petroleum Pipes & Machinery Co. Ltd.
Orient International Holding Shanghai Rongheng Intl Trading Co. Ltd.
Orient Rider Corporation Ltd.
Pol Shin Fastener (Zhejiang) Co.
Prosper Business and Industry Co., Ltd.
Qingdao Free Trade Zone Health Intl.
Qingdao Top Steel Industrial Co. Ltd.
Sampulse Industrial Co., Ltd.
Shaanxi Succeed Trading Co., Ltd.
Shanghai Autocraft Co., Ltd.
Shanghai Beitra Fasteners Co., Ltd.
Shanghai E-Heng Imp. & Exp. Co. Ltd.
Shanghai East Best Foreign Trade Co.
Shanghai East Best International Business Development Co., Ltd.
Shanghai Fortune International Co. Ltd.
Shanghai Furen International Trading
Shanghai Hunan Foreign Economic Co., Ltd.
Shanghai Jiabao Trade Development Co. Ltd.
Shanghai Nanshi Foreign Economic Co.
Shanghai Overseas International Trading Co. Ltd.
Shanghai Prime Machinery Co. Ltd.
Shanghai Printing & Dyeing and Knitting Mill
Shanghai Printing & Packaging Machinery Corp
Shanghai Recky International Trading Co., Ltd.
Shanghai Sinotex United Corp. Ltd.
Shanghai Strong Hardware Co. Li
Shanghai Wisechain Fasteners Ltd.
Shenzhen Fenda Technology Co., Ltd.
Shenzhen Haozhenghao Technology Co.
Shijianzhuang Huitongxiang Li Trade
Soyoung Industrial Co., Ltd.
SRC Metal (Shanghai) Co., Ltd.
Suntec Industries Co., Ltd.
Suzhou Henry International Trading Co., Ltd.
T and C Fastener Co. Ltd.
T and L Industry Co. Ltd.
Taizhou Maixing Machinery Co.
Telsto Development Co., Ltd.
The Hoffman Group International
Tianjin Port Free Trade Zone
Tianjin Star International Trade Co., Ltd.
Tong Ming Entreprise Co., Ltd.
Tong Win International Co., Ltd.
Tri Steel Co., Ltd.
Wisechain Trading Limited
Wuxi Metec Metal Co. Ltd.
Xiamen Hua Min Imp. and Exp. Ltd.
Xiamen Rongxinda Industry Co., Ltd.
Xiamen Yuhui Import & Export Co., Ltd.
Yogendra International
Yuyao Hualun Imp. & Exp. Co., Ltd.
Zhangjiagang Ever Faith Industry Co.
Zhejiang Heirrmu Mechanical and Electrical Equipment Manufacturing Co Ltd.
Zhejiang Heiter Industries Co., Ltd.
Zhejiang Heiter Mfg & Trade Co. Ltd.
Zhejiang Jin Zeen Fasteners Co. Ltd.
Zhejiang Junyue Standard Part Co., Ltd.
Zhejiang Laibao Precision Technology Co. Ltd.
Zhejiang Metals & Minerals Imp & Exp Co. Ltd.
Zhejiang Morgan Brother Technology Co. Ltd.
Zhejiang New Century Imp & Exp Co. Ltd.
Zhejiang New Oriental Fastener Co., Ltd.
Zhejiang Zhenglian Industry Development Co., Ltd.
Zhongsheng Metal Co., Ltd.
Zhoushan Zhengyuan Standard Parts Co., Ltd.
The People's Republic of China: Drawn Stainless Steel Sinks A-570-983 | 4/1/16-3/31/17
B&R Industries Limited
Elkay (China) Kitchen Solutions, Co., Ltd.
Feidong Import and Export Co., Ltd.
Foshan Shunde MingHao Kitchen Utensils Co., Ltd.
Foshan Zhaoshun Trade Co., Ltd.
Franke Asia Sourcing Ltd.
Grand Hill Work Company
Guangdong Dongyuan Kitchenware Industrial Co., Ltd.
Guangdong G-Top Import & Export Co., Ltd.
Guangdong New Shichu Import & Export Company Limited
Guangdong Yingao Kitchen Utensils Co., Ltd.
Hangzhou Heng's Industries Co., Ltd.
Hubei Foshan Success Imp & Exp Co. Ltd.
J&C Industries Enterprise Limited
Jiangmen Hongmao Trading Co., Ltd.
Jiangmen New Star Hi-Tech Enterprise Ltd.
Jiangmen Pioneer Import & Export Co., Ltd.
Jiangmen Xinhe Stainless Steel Products Co., Ltd.
Jiangxi Zoje Kitchen & Bath Industry Co., Ltd.
KaiPing Dawn Plumbing Products, Inc.
Ningbo Afa Kitchen and Bath Co., Ltd.
Ningbo Oulin Kitchen Utensils Co., Ltd.
Primy Cooperation Limited
Shenzhen Kehuaxing Industrial Ltd.
Shunde Foodstuffs Import & Export Company Limited of Guangdong
Shunde Native Produce Import and Export Co., Ltd. of Guangdong
Yuyao Afa Kitchenware Co., Ltd.
Zhongshan Newecan Enterprise Development Corporation
Zhongshan Silk Imp. & Exp. Group Co., Ltd. of Guangdong
Zhongshan Superte Kitchenware Co., Ltd./Zhongshan Superte Kitchenware Co., Ltd. invoiced as Foshan Zhaoshun Trade Co., Ltd
Zhuhai Kohler Kitchen & Bathroom Products Co., Ltd.
The People's Republic of China: Magnesium Metal A-570-896 | 4/1/16-3/31/17
Tianjin Magnesium International Co., Ltd.
Tianjin Magnesium Metal Co., Ltd.
The People's Republic of China: Non-Malleable Cast Iron Pipe Fittings A-570-875 | 4/1/16-3/31/17
Dalian Reliable Industrial Co., Ltd.
Tianjin Port Free Trade Zone Star Pipe International Trade Co., Ltd.
Countervailing Duty Proceedings
Indonesia: Certain Uncoated Paper ⁶ C-560-829 | 6/29/15-12/31/16
The People's Republic of China: Drawn Stainless Steel Sinks C-570-984 | 1/1/16-12/31/16
Zhongshan Superte Kitchenware Co., Ltd.

Suspension Agreements

None.

⁴ On May 9, 2017, the Department inadvertently initiated the review for only PT. Indah Kiat Pulp and Paper Tbk (IK) and PT. Pabrik Kertas Tjiwi Kimia Tbk (TK) (collectively APP) in the initiation notice that published on May 9, 2017 (82 FR 21513). However, in the final determination of the underlying investigation, we found that IK, TK, and their affiliate Pindo Deli Pulp and Paper Mills (PD) comprised a single entity. See Certain Uncoated Paper from Indonesia: Final Determination of Sales at Less Than Fair Value, 81 FR 3101, 3102 (January 20, 2016). As a result, we now correct the initiation of this review to include PD.

⁵ On April 10, 2017, the Department initiated its administrative review of Certain Frozen Warmwater Shrimp from the Socialist Republic of Vietnam. See Initiation of Antidumping and Countervailing Duty Administrative Reviews, 82 FR 17188 (April 10, 2017). The Department inadvertently omitted a footnote with respect to the initiation of one exporter. We have provided the footnote in this initiation notice:

Shrimp produced and exported by Minh Phu Seafood Corporation were excluded from the Vietnam AD order effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review with respect to Minh Phu Seafood Corporation only for shrimp produced in Vietnam where Minh Phu Seafood Corporation acted as either the manufacturer or exporter (but not both).

⁶ On May 9, 2017, the Department inadvertently initiated the review for only PT. Indah Kiat Pulp and Paper Tbk (IK) and PT. Pabrik Kertas Tjiwi Kimia Tbk (TK) (collectively APP) in the initiation notice that published on May 9, 2017 (82 FR 21513). However, in the final determination of the underlying investigation, we found that IK, TK, and their affiliate Pindo Deli Pulp and Paper Mills (PD) comprised a single entity. See Certain Uncoated Paper From Indonesia: Final Affirmative Countervailing Duty Determination, 81 FR 3104 (January 20, 2016). As a result, we now correct the initiation of this review to include PD.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁷ Parties are hereby reminded that revised certification requirements are in effect for company/government officials as well as their representatives. All segments of any antidumping duty or countervailing duty proceedings initiated on or after August 16, 2013, should use the formats for the revised certifications provided at the end of the Final Rule.⁸ The Department intends to reject factual submissions in any proceeding segments if the submitting party does not comply with applicable revised certification requirements.

⁷ See section 782(b) of the Act.

⁸ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: June 1, 2017.
Gary Taverman,
Deputy Assistant Secretary for Antidumping and Countervailing Duty Operations.

[FR Doc. 2017-11828 Filed 6-6-17; 8:45 am]

BILLING CODE 3510-DS-P